DEPARTMENT OF THE INTERIOR

Bureau of Land Management

[NM-030-1640-PD]

Emergency Closure of Public Land, Sierra County, NM

AGENCY: Bureau of Land Management (BLM), Interior.

ACTION: Notice of emergency closure.

SUMMARY: Notice is hereby given that effective immediately, the Las Cruces Field Office is implementing the emergency closure of certain public land located in Sierra County, New Mexico. The area is closed to all public use except for administrative purposes. This action is taken in order to protect public health and safety and to prevent resource degradation in the area of a plane crash site. The following public land is affected by the closure:

T. 11 S., R. 6 W., NMPM

Section 14, SW¼;

Section 15, that portion south of Sierra County Road 16;

Section 22, All;

Section 23, W½

Section 26, NW¼;

Section 27, N½.

DATES: This closure is effective immediately and shall remain in effect for one year.

ADDRESSES: Bureau of Land Management, Las Cruces Field Office, 1800 Marquess, Las Cruces, New Mexico, 88005.

FOR FURTHER INFORMATION CONTACT: Leonard T. Brooks, Assistant Field Manager, Division of Multi-Resources, or John Besse, Environmental Protection Specialist, at the address above or by calling (505) 525-4300.

SUPPLEMENTARY INFORMATION: Violation of this closure is punishable by a fine not to exceed $1,000 and/or imprisonment not to exceed 1 year. Copies of this closure order and maps showing the location of the affected area are available at the Las Cruces Field Office, during normal business hours, Monday through Friday, 7:45 a.m. to 4:30 p.m.

Authority: 43 CFR 8364.1: Closure and Restriction Orders.

Dated: April 15, 2004.
Jim C. McCormick, Jr.,
Acting Field Manager, Las Cruces.

[FR Doc. 04-16880 Filed 7-23-04; 8:45 am]

BILLING CODE 4310-VC-P